DEPARTMENT OF TRANSPORTATION

Federal Aviation Administration

Public Notice for Waiver of Aeronautical Land-Use Assurance

AGENCY: Federal Aviation Administration (FAA), DOT.

ACTION: Notice of intent of waiver with respect to land; Feeeman Municipal Airport, Seymour, Indiana.

SUMMARY: The FAA is considering a proposal to change a portion of the airport from aeronautical use to non-aeronautical use at the Freeman Municipal Airport in Seymour, Indiana. The proposal consists of approximately 2.14 acres located outside the fenced in portion of airport property. The property contains a single building that is currently unoccupied, but has been used for residential and business purposes in the past. It is the intent of the Seymour Airport Authority, as owner and operator of the Freeman Municipal Airport (SER) to sell the entire 2.14 acres, including the building. The land is not needed for aeronautical use, and will be sold for use as an aviation related business office.

DATES: Comments must be received on or before May 16, 2013.

ADDRESSES: Documents are available for review by appointment at the FAA Airports District Office, Bobb Beauchamp, Environmental Protection Specialist, Chicago Airports District Office, Federal Aviation Administration, 2300 E. Devon Avenue, Des Plaines, Illinois, 60018. Telephone: (847) 294-7364/FAX Number (847) 294-7046. Written comments on the Sponsor's request must be delivered or mailed to: Bobb Beauchamp, Environmental Protection Specialist, Federal Aviation Administration, Airports District Office, 2300 E. Devon Avenue, Des Plaines, Illinois, 60018, Telephone Number: (847) 294-7364/FAX Number (847) 294-7046.

FOR FURTHER INFORMATION CONTACT: Bobb Beauchamp, Environmental Protection Specialist, Chicago Airports District Office, Federal Aviation Administration, 2300 E. Devon Avenue, Des Plaines, Illinois, 60018. Telephone Number (847) 294-7364/FAX Number (847) 294-7046.

SUPPLEMENTARY INFORMATION: In accordance with Section 47107(h) of Title 49, United States Code, this notice is required to be published in the Federal Register 30 days before modifying the land-use assurance that requires the property to be used for an aeronautical purpose.

The land was acquired via quitclaim deed from the United States Department of Defense dated December 9, 1948. The disposition of proceeds from the sale of the airport property will be in accordance with FAA's Policy and Procedures Concerning the Use of Airport Revenue, published in the Federal Register on February 16, 1999 (64 FR 7696). There are no impacts to the airport by allowing the airport to sell the property. This notice announces that the FAA is considering the release of the subject property at the Freeman Municipal Airport, Seymour, Indiana from all Federal land covenants. Approval does not constitute a commitment by the FAA to financially assist in the disposal of the subject airport property nor a determination of eligibility for grant-in-aid funding from the FAA.

Following is a legal description of the property: Part of the southeast quarter of Section 30, Township 5 north, Range 6 east, and part of the northeast quarter of Section 31, Township 6 north, Range 6 east, lying in Jackson County, Indiana.

Beginning at a steel pin in concrete (found) in State Road 11, marking the southeast corner of Section 30; thence north 01′23′48′ west along the east line of said Section 30 a distance of 170.29 feet to a mag nail (set); thence south 88′32′34′ west a distance of 295.36 feet to a ⅝″ capped rebar (set); thence south 00′21′39′ east a distance of 316.68 feet to a ⅝″ capped rebar (set); thence north 88′32′34′ east a distance of 301.24 feet to the east line of Section 31, State Road 11 and a mag nail (set); thence 01′27′26′ west along said east line and said road a distance of 143.34 feet to the point of beginning, containing 2.14 acres more or less and subject to all legal rights and way and easements.

Issued in Des Plaines, Illinois, on March 25, 2013.
Jack Delaney,
Acting Manager, Chicago Airports District Office FAA, Great Lakes Region.

[FR Doc. 2013-08822 Filed 4-15-13; 8:45 am]

BILLING CODE 4910-13-P